FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Freight Right Global Logistics, Inc., 899 W. Cowles Street, #A, Long Beach, CA 90813. Officers: Robert Khachatryan, Vice President, (Qualifying Individual) Juleta Harutyunyan, President.

ASAP Carriers LLC, Hudson River Valley New York, 31 Monell Place, Beacon, NY 12508. Officer: Ruediger Hilken, General Manager (Qualifying Individual).

KCE Logistics Inc., 1932 NW. 82nd Avenue, Miami, FL 33126. Officers: Janery D. Saenz, Vice President (Qualifying Individual), Mauricio Jikal, President.

Non-Vessel-Operating Common Carrier and Ocean Freight Forwarder Transportation Intermediary Applicants

Koch Maritime, Inc., 2230 Energy Park Drive, St. Paul, MN 55108. Officers:Lawrence Edward Garaghty, COO, (Qualifying Individual), Randy Koch, CEO.

Export Freight & Brokers, Inc., 6258 Presidential Court, Ste. 207, Ft. Myers, FL 33919. Officers:Corina Barahona, Vice President (Qualifying Individual), Filander Antonio Barahona, President.

Heneways U.S.A. Inc., 5600 N. River Road, Suite 800, Rosemont, IL 60018. Officers:Julie M. Tortorich, Vice Pres. Operations (Qualifying Individual), Neil Pearson, President.

NC Cargo, Corp., 7478 NW. 54th Street, Miami, FL 33166. Officers:Lorenzo J. Colina, President (Qualifying Individual), Aura P. Colina, Vice President.

Topstar Shipping, Inc., 8587 NW. 54th Street, Miami, FL 33166. Officers:Neila Guevara, Vice President (Qualifying Individual), Jose Miguel Guevara, President.

T.R.T. International, Ltd., 196-E Maracaibo Street, Newark, NJ 07114. Officers:Yelena Zaborenko, Vice President (Qualifying Individual), Toleg Mitnik, President.

TB Worldwide Shipping Services, 4740 Gretina Street, Dallas, TX 75207, Anthony Okafor, Sole Proprietor.

Ocean Freight Forwarder—Ocean Transportation Intermediary Applicants

Eagle Van Lines, Inc., 5041 Beech Place, Temple Hills, MD 20748. Officers:Christos Georgakopoulos, Vice President (Qualifying Individual), George Georgakopoulos, President.

Trade Routes, 3010 NW. 85th Street, Seattle, WA 98117, Gry I. Loklingholm, Sole Proprietor.

Royal Shipping Lines Corp, 475 Hialeah Drive, (Rear Shopping Ctr), Hialeah, FL 33010. Officers:Vivian Garcia, Vice President (Qualifying Individual), Jose Molina, President.

Sunship International Acquisitions Inc., 6815 W. 95th Street, Suite 1 NE., Oaklawn, IL 60453. Officers:Ylli Karaqica, Vice President (Qualifying Individual), Andrzej Kmiecik, President.

Alcoritransport, Inc., 15985 NW. 52 Ave., Hialeah, FL 33014. Officer:Alex Fernando Uribe, President (Qualifying Individual).

Dated: June 29, 2007.
Karen V. Gregory,
Assistant Secretary.

[FR Doc. E7-13040 Filed 7-3-07; 8:45 am]

BILLING CODE 6730-01-P